DEPARTMENT OF AGRICULTURE

Food and Nutrition Service

Request for Information: Software Vendors of State and Local Management Information Systems (MIS) and Other Technology Solutions for the National School Lunch and School Breakfast Programs

AGENCY: Food and Nutrition Service (FNS), USDA.

ACTION: Notice; Request for information.

SUMMARY: This is a request for information from Management Information Systems (MIS) software and hardware vendors and developers (“vendors”) to learn about the functionality of State and School Food Authority National School Lunch and School Breakfast Program (NSLP/SBP) data management information systems. It is not a request for proposal and does not commit the Government to issue a solicitation, make an award, or pay any costs associated with responding to this announcement. All submitted information shall remain with the Government and will not be returned. All responses will become part of the public record and will not be held confidential.

The United States Department of Agriculture (USDA) is seeking information that will inform future data reporting requirements for the Department's oversight and management of NSLP/SBP. The Department is aware that all States and many school districts have installed and implemented MIS or other technology solutions to improve State and local program management. To better understand the availability and implementation of these solutions, USDA is requesting information from vendors about NSLP/SBP data systems they offer and have deployed at the State and local levels.

The objectives of this request for information (RFI) are to:

1. Obtain background data to inform later research on State and School Food Authority (SFA) NSLP/SBP data management information systems.

2. Describe the functionality and capabilities of systems currently in use by State agencies and SFAs, or available to States and SFA for purchase.

3. Describe the typical costs of system development, installation, maintenance, and upgrades.

4. Identify which States and SFAs are using particular systems.

DATES: To be assured of consideration, written comments must be submitted or postmarked on or before March 14, 2016.

ADDRESSES: The Food and Nutrition Service, USDA, invites the submission of the requested information through one of the following methods:

• Preferred method: Submit information through the Federal eRulemaking Portal at http://www.regulations.gov. Follow the online instructions for submissions.

• Mail: Submissions should be addressed to Dennis Ranalli, Social Science Policy Analyst, Office of Policy Support, FNS, U.S. Department of Agriculture, 3101 Park Center Drive, Room 1014, Alexandria, VA 22302.

• Comments may also be emailed to dennis.ranalli@fns.usda.gov.

All information properly and timely submitted, using one of the three methods described above, in response to this request for information will be included in the record and will be made available to the public on the Internet at http://www.regulations.gov. Please be advised that the substance of the information provided and the identity of the individuals or entities submitting it will be subject to public disclosure.

All written comments will be open for public inspection at the FNS office located at 3101 Park Center Drive, Alexandria, Virginia, 22302, Room 1014, during regular business hours (8:30 a.m. to 5:00 p.m., Monday through Friday). All responses to this notice will be summarized and included in the request for Office of Management and Budget (OMB) approval. All comments will be a matter of public record.

FOR FURTHER INFORMATION CONTACT: Requests for additional information or copies of this request for information should be directed to Dennis Ranalli at dennis.ranalli@fns.usda.gov.

SUPPLEMENTARY INFORMATION: The current Food and Nutrition Service (FNS) routine data collection requirements for the National School Lunch Program and School Breakfast Program (NSLP/SBP) have their roots in the paper and early computer eras and reflect concerns with paperwork and reporting burden. Thus, data collected to administer and monitor these programs is typically reported at the State level, with detailed data collected at the service delivery point (e.g., individual meal transactions, school) often aggregated at one or more levels (e.g., school to SFA to State-level) before being submitted to FNS. Data aggregation results in a significant loss of potentially valuable information that could support administration, monitoring, and policy development.

FNS recognizes that, in fact, managing a school food service program is a complex and data intensive operation, and that SFAs collect, generate, and maintain far more data than they report to their State child nutrition agencies. This includes data on costs, revenues, inventories, vendor management, and other business, administrative and regulatory activity. The same is true of State agencies that are responsible for monitoring the work of many SFAs. Some States and SFAs have developed more sophisticated data management systems to manage program data, however there is no comprehensive inventory of NSLP/SBP management information systems (MIS) in use, the number of States and SFAs that use MIS, or the data elements collected to support FNS reporting and general program management.

The Review of Child Nutrition Data and Analysis for Program Management project will fill this knowledge gap by fully documenting SFA and State NSLP/SBP management information systems. This baseline “as is” review will document overall NSLP/SBP information system design, capabilities, functions, development/replacement and maintenance costs, and typical lifespan. The “as is” review is focusing particular attention on NSLP/SBP program management data that are collected or generated at the SFA or State agency levels, but are not required to be reported to FNS on any FNS program report forms. Findings from the RFI and additional review activities will provide a baseline for potential improvements to data collection practices and help support future MIS modernization and paperwork reduction efforts. They will also help identify promising and emerging practices and define models for MIS at both the state and local SFA levels.

FNS requests that vendors respond in detail to the items below. Vendors are encouraged to provide any material that addresses the information requested or any other information that may be pertinent. Additional references or links to materials are welcome.

I. Vendor Information

a. Name of Company

b. Address and Telephone Number

c. Vendor Representative, contact number and email address

II. Vendor Overview & Experience

Briefly describe your company, your products and services, history, and ownership; for example:

a. Web site address

b. Main product/services

c. Main market/customers

d. Company location(s)

e. Product deployment sites/school systems

1. Number of School District/schools currently deployed

2. Average/typical size of the school system

3. Year of first deployment

4. Years serving schools

III. Product Information

a. List and describe the core modules provided by your product. For example:

1. Point of Sale/Service (POS)

2. Prepayment system(s) for parents

3. Nutrient Analysis and Menu Planning

4. Inventory Management

5. Purchasing/Vendor Management

6. Production Records

7. Financial Management

8. Free and Reduced-Price Meals Applications

• Scanning paper applications

• Processing On-line applications

• Making eligibility determinations

• Creating benefit issuance documents

• Conducting verification

9. Direct Certification

• SNAP recipients

• Extended SNAP household members

• Other direct certification—homeless, migrant, foster

10. Meal counting and claiming

11. Administrative Review

12. Reporting

13. Any other not listed above

b. Describe the capabilities and reporting functionalities of your product.

c. Describe your platform—site-based, central office w/satellite, cloud-based, etc.

d. For SFAs, are POS terminals proprietary or third-party?

e. Is your system a commercial off the shelf (COTS) product with application in multiple industry segments or school nutrition specific?

f. Does your firm rely on any `third party software products/systems' for implementation and/or operation?

g. Are any additional licenses required from `third party sources' to utilize your product?

h. What is your product's ability to interface with other vendor systems? What level of customization is available?

i. List the minimum and recommended hardware requirements to implement and utilize your product at each level of installation.

j. Describe the interface capabilities between your product and various within-district student data base systems.

k. Describe the interface capabilities between your product and State agency systems.

l. Does your system adhere to Schools Interoperability Framework (SIF) standards?

m. Please provide a list of data elements captured/stored by your product. For example:

1. Name of the data element

2. Description of the data element

3. Possible values

n. Describe the processes/procedures/steps associated with planning, installation, setup, data import and conversion, data migration, quality assurance, deployment, and roll-out for your product.

IV. Customer Support, Maintenance and Security

a. Describe your model for providing customer support, including charge/cost structure (e.g., hours of support, levels of support).

b. Describe your incident reporting and tracking systems, and the ability for customer staff to access those systems directly.

c. List the types of support access that are available (web, email, chat, telephone etc.).

d. Describe the communication and escalation processes/protocols in the event of failure, network outages, degraded service, and/or exceeded planned utilization.

e. Describe your replication, archival and retrieval processes, including your disaster recovery model.

f. Describe the warranty and maintenance plan(s) for your product. Have there been recent upgrades or updates to your product? How often do you typically develop and release upgrades?

g. Is your support agreement integrated into the license agreement?

h. Describe your understanding and system approach to privacy rules, specifically those related to children and students (Children's Online Privacy Protection Act, Family Educational Rights and Privacy Act, etc.).

i. Describe your process for upgrading your product to meet federal and state regulations.

j. Does your product support access through smartphones, tablets, laptops etc.?

V. Pricing

a. Describe your pricing models relevant to each component of your product.

b. Is your pricing model based on purchasing the entire product or individual module(s), or is it based on usage/users?

c. Describe the upgrade process and cost to upgrade.

d. List any additional pricing/cost information that would be useful to evaluate the affordability of the product.

VI. Training

a. What type of technical training do you provide?

b. Describe your product's documentation and in-program help?

Audrey Rowe,
Administrator, Food and Nutrition Service.

[FR Doc. 2016-00504 Filed 1-12-16; 8:45 am]

BILLING CODE 3410-30-P